DEPARTMENT OF DEFENSE

Office of the Secretary

[Transmittal No. 23-42]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-42, and Policy Justification.

Dated: November 1, 2024.
Stephanie J. Bost,
Alternate OSD Federal Register Liaison Officer, Department of Defense.

BILLING CODE 6001-FR-P

BILLING CODE 6001-FR-C

Transmittal No. 23-42

Notice of Proposed Issuance of Letter of Offer Pursuant to Section 36(b)(1) of the Arms Export Control Act, as amended

(i) Prospective Purchaser: Government of Kuwait

(ii) Total Estimated Value:

Major Defense Equipment * | $ 0 million
Other | $150 million
Total | $150 million

Funding Source: National Funds

(iii) Description and Quantity or Quantities of Articles or Services under Consideration for Purchase:

Major Defense Equipment (MDE):

None

Non-MDE:

The Government of Kuwait has requested the replacement of expiring limited life components and certifications testing in order to support an operational life of thirty (30) years for Patriot Advanced Capability-3 (PAC-3) missiles. Included in this potential sale are: test and repair of PAC-3 missiles; stockpile reliability testing and field returns; repair and return of classified and unclassified PAC-3 missile items and ground support equipment (GSE) component level parts; replenishment of classified and unclassified missile spares, GSE spares, and seeker spares; tools to improve the turnaround time of the repair and recertification efforts; air transportation services for missile processing; U.S. Government and contractor technical and logistics support; training devices; organizational equipment; support equipment; test equipment; technical data and publications; personnel training and training equipment; and other related elements of logistics and program support.

(iv) Military Department: Army (KU-B-UYK)

(v) Prior Related Cases, if any: KU-B-UMI

(vi) Sales Commission, Fee, etc., Paid, Offered, or Agreed to be Paid: None

(vii) Sensitivity of Technology Contained in the Defense Article or Defense Services Proposed to be Sold: None

(viii) Date Report Delivered to Congress: September 20, 2023

* As defined in Section 47(6) of the Arms Export Control Act.

POLICY JUSTIFICATION

Kuwait—Repair and Recertification of Patriot Advanced Capability-3 Missiles

The Government of Kuwait has requested the replacement of expiring limited life components and certifications testing in order to support an operational life of thirty (30) years for Patriot Advanced Capability-3 (PAC-3) missiles. Included in this potential sale are: test and repair of PAC-3 missiles; stockpile reliability testing and field returns; repair and return of classified and unclassified PAC-3 missile items and ground support equipment (GSE) component level parts; replenishment of classified and unclassified missile spares, GSE spares, and seeker spares; tools to improve the turnaround time of the repair and recertification efforts; air transportation services for missile processing; U.S. Government and contractor technical and logistics support; training devices; organizational equipment; support equipment; test equipment; technical data and publications; personnel training and training equipment; and other related elements of logistics and program support. The estimated total cost is $150 million.

This proposed sale will support the foreign policy and national security objectives of the United States (U.S.) by helping to improve the infrastructure of a Major Non-NATO ally that has been an important force for political stability and economic progress in the Middle East.

This proposed sale will improve Kuwait's capability to sustain their missile density and ensure readiness for air operations. Kuwait will use this capability as a deterrent to regional threats and to strengthen homeland defense. Kuwait will have no difficulty absorbing this infrastructure, support, and associated services into its armed forces.

The proposed sale of this equipment and support will not alter the basic military balance in the region.

The principal contractor will be the Lockheed Martin Corporation, Camden, Arkansas. There are no known offset agreements proposed in connection with this potential sale.

Implementation of this proposed sale will not require the assignment of any additional U.S. Government or contractor representatives to Kuwait.

There will be no adverse impact on U.S. defense readiness as a result of this proposed sale.

[FR Doc. 2024-25820 Filed 11-5-24; 8:45 am]

BILLING CODE 6001-FR-P